DEPARTMENT OF COMMERCE

National Oceanic and Atmospheric Administration

50 CFR Part 622

[Docket No. 130606533-4224-01]

RIN 0648-BD36

Fisheries of the Caribbean, Gulf of Mexico, and South Atlantic; Reef Fish Fishery of the Gulf of Mexico; Amendment 26 and Amendment 29 Supplement

AGENCY: National Marine Fisheries Service (NMFS), National Oceanic and Atmospheric Administration (NOAA), Commerce.

ACTION: Proposed rule; request for comments.

SUMMARY: NMFS proposes to supplement the regulations implementing Amendments 26 and 29 to the Fishery Management Plan for Reef Fish Resources of the Gulf of Mexico (FMP), as prepared and submitted by the Gulf of Mexico Fishery Management Council (Council). Amendment 26 established an individual fishing quota (IFQ) program for the red snapper commercial sector of the reef fish fishery in the Gulf of Mexico (Gulf) exclusive economic zone (EEZ). Amendment 29 established a multi-species IFQ program for the grouper and tilefish component of the commercial sector of the reef fish fishery in the Gulf EEZ. If implemented, this rule would specify procedures for closing an IFQ account and modify requirements for IFQ landing transactions, landing notifications, and offloading. The purpose of this proposed rule is to enhance the monitoring, enforcement, and review of the IFQ programs as specified in Amendments 26 and 29 to the FMP.

DATES: Written comments must be received on or before April 18, 2014.

ADDRESSES: You may submit comments on this document, identified by “NOAA-NMFS-2013-0122”, by any of the following methods:

• Electronic Submission: Submit all electronic public comments via the Federal e-Rulemaking Portal. Go to www.regulations.gov/#!docketDetail;D=NOAA-NMFS-2013-0122, click the “Comment Now!” icon, complete the required fields, and enter or attach your comments.

• Mail: Submit written comments to Catherine Hayslip, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendments 26 and 29, which each include a final environmental impact statement (FEIS), a regulatory impact review (RIR), and a regulatory flexibility act analysis may be obtained from the Council's Web site at http://www.gulfcouncil.org/fishery_management_plans/reef_fish_management_archives.php.

Comments regarding the burden-hour estimates or other aspects of the collection-of-information requirements contained in this proposed rule may be submitted in writing to Anik Clemens, Southeast Regional Office, NMFS, 263 13th Avenue South, St. Petersburg, FL 33701; and the Office of Management and Budget (OMB), by email at OIRA Submission@omb.eop.gov, or by fax to 202-395-7285.

FOR FURTHER INFORMATION CONTACT: Catherine Hayslip, telephone 727-824-5305, email Catherine.Hayslip@noaa.gov.

SUPPLEMENTARY INFORMATION: The reef fish fishery of the Gulf of Mexico is managed under the FMP. The FMP was prepared by the Council and is implemented through regulations at 50 CFR part 622 under the authority of the Magnuson-Stevens Act.

Background

In 2006, NMFS published a final rule implementing Amendment 26 to the FMP, which established the Gulf of Mexico Red Snapper Individual Fishing Quota (IFQ) program (71 FR 67447, November 22, 2006). In 2009, NMFS published a final rule implementing Amendment 29 to the Reef Fish FMP, which established the Gulf of Mexico Grouper-Tilefish IFQ program (74 FR 44732, August 31, 2009). Two additional rules were published in 2010 and 2011 modifying the procedures for administering these IFQ programs (75 FR 9116, March 1, 2010, and 76 FR 68339, November 4, 2011). If implemented, this proposed rule would specify procedures for closing an IFQ account and modify requirements for IFQ landing transactions, landing notifications, and offloading. The purpose of this proposed rule is to enhance the monitoring, enforcement, and review of the IFQ programs as specified in Amendments 26 and 29 to the Reef Fish FMP.

Management Measures Contained in This Proposed Rule

Close an IFQ Account

There are over 1,150 shareholder accounts and more than 150 dealer accounts in the IFQ online system. As of June 2013, 288 shareholder accounts hold no shares or allocation and many dealer accounts are not actively used. This rulemaking would establish procedures for NMFS IFQ Customer Service staff or IFQ account holders to close a shareholder account that no longer holds shares and allocation, or a dealer account that has paid all cost recovery fees. Under these provisions, IFQ account holders could close an account at any time by submitting a Close Account Request Form to NMFS. This form has already been approved (OMB Control No. 0648-0551) for use by NMFS to close IFQ accounts. This rulemaking would also allow NMFS IFQ Customer Service staff to close an IFQ account if no landing transactions or IFQ transfers have been completed by the IFQ account holder in at least 1 year. Accounts closed by NMFS IFQ Customer Service staff may be reopened at the request of the IFQ account holder. Closing accounts will reduce the number of records NMFS needs to maintain.

Landing Notifications

Current regulations specify that a vessel account must hold sufficient IFQ allocation from the time of advance notice of landing through completion of the landing transaction. This rulemaking would allow allocation to be held in either a vessel account or the vessel account's linked shareholder account at the time of advance notice of landing. On occasion, a vessel does not have sufficient allocation in its vessel account at the time of advance notice of landing, but does have sufficient allocation in its linked shareholder account. This rulemaking would provide vessel captains and shareholders additional flexibility when completing a landing notification that is similar to an overdraft protection account. The IFQ online system would automatically determine if a vessel and/or a vessel's linked shareholder account has sufficient allocation at the time of advance notice of landing. However, before completing a landing transaction the shareholder would need to transfer allocation from the shareholder account to the vessel account if sufficient allocation does not exist in the vessel account to allow the dealer to complete the landing transaction.

This rulemaking would also extend the advance notice of landing reporting window for IFQ species. Currently, the owner or operator of a vessel landing IFQ species is responsible for ensuring that NMFS is contacted at least 3 hours, but no more than 12 hours, in advance of landing. The window of time for reporting an advance notice of landing would be extended from 12 to 24 hours. This would provide vessel owners and operators additional flexibility when making landing notifications, while still providing law enforcement sufficient advance notice to meet vessels at the landing location for inspection. The additional time would allow fishermen making day trips greater than 12 hours to make landing notifications in advance of their trip. The additional time would also allow owners or operators to make multiple landing notifications at the same time, especially if the vessel will be landing at multiple landing locations to offload fish.

Current regulations do not specify procedures for making changes to landing notifications. This rulemaking would specify that any changes to a landing notification (time of landing, landing location, dealer, or change in estimated pounds) would require a new landing notification, which would supersede the previous notification. If changes are made to the landing location, the time of landing is earlier than previously specified, or more than one superseding notification is submitted on a trip, the vessel must provide at least a 3-hour notification prior to landing. If changes are made to the dealer(s) purchasing the fish or the estimated weights of fish to be landed, a vessel would need to make a new notification, but would not have to wait an additional 3 hours before landing, as long as the landing time is later than or equal to the previous notification.

This rulemaking would also require that a vessel land within 30 minutes after the time given in the landing notification, unless a state or Federal law enforcement officer has authorized a landing prior to the notification time. If a vessel is landing more than 30 minutes after the time given in the landing notification, the owner or operator of the vessel must submit a new landing notification, but will not be required to wait an additional 3 hours to land as long as only one superseding landing notification has been submitted for the trip. As stated in the paragraph above, if more than one superseding notification has been made for a trip, the vessel would be required to wait an additional 3 hours before landing. Allowing owners and operators to change landing notifications once without waiting an additional 3 hours should increase flexibility and reduce the amount of time a vessel may wait to land. Requiring vessels to land within 30 minutes after the time indicated in the landing notification is intended to aid law enforcement by ensuring vessels land at or near the reported time. During the August 2013 Gulf of Mexico Fishery Management Council meeting, the Council discussed extending the landing window from 30 minutes to 1 hour based on public comments received. During the November 2013 Red Snapper IFQ ad hoc Advisory Panel meeting, the Advisory Panel discussed and recommended that the landing window be extended from 30 minutes to 1 hour. NMFS is specifically interested in input from fishermen regarding whether a 30-minute landing window is sufficient. If it is not a sufficient window of time to land, NMFS is interested in knowing if 1 hour would be sufficient for landing.

Additionally, this rule would allow vessels to land prior to a 3-hour notification if a state or Federal law enforcement officer is present at the landing site and authorizes the owner or operator of the vessel to land early. Currently, vessels submitting a landing notification may return to port earlier than anticipated, but may not land until waiting a minimum of 3 hours. This results in some vessels idling or anchoring in sight of the landing location until 3 hours have passed. This rule would provide vessel owners and operators additional flexibility by allowing them to land prior to the time on the advance notice of landing.

This rule would remove regulatory language related to landing notifications. A phrase stating “NMFS will add other methods of complying with the advance notice of landing requirement” would be removed because NMFS has already identified numerous methods for submitting landing notifications. Regulatory language would also be removed that precludes authorization to complete a landing transaction if an advance notice of landing is not submitted. There are numerous circumstances when an advance notice of landing may be properly submitted by the vessel owner or captain, but the advance notice of landing is not received due to technological problems (e.g., VMS transmission failure, online system failure).

Landing Transactions

This rule would prohibit the deduction of ice and water weight when reporting an IFQ landing transaction, specify that a dealer must report all IFQ landings via the IFQ Web site, specify timeframes for completing a landing transaction, and clarify that a dealer may only receive IFQ fish transported by a vehicle or a trailered vessel that has a corresponding transaction approval code.

Currently, regulations do not specify how fish should be weighed before completing a landing transaction. Dealers throughout the Gulf of Mexico use a variety of methods for weighing fish, with some deducting for ice and water weight and others not making any deductions. Input received from dealers and fishermen indicates deductions may range from 0 to 3 percent of the total amount landed, meaning some dealers pay less cost recovery than other dealers that are not making these same deductions. This rule would require dealers to include ice and water weight when purchasing IFQ species. NMFS considered specifying a standardized deduction percentage for ice and water weight. However, NMFS determined that this would be impracticable to estimate and would need to be species-specific due to varying industry practices for icing fish, differences in trip durations that may affect how much water and ice retention occurs, varying dealer practices for removing ice from fish prior to weighing, and varying fish sizes and body shapes.

This rulemaking would also clarify that fish must be sold to a federally permitted dealer and dealers must report all landings and their actual ex-vessel prices via the IFQ online Web site. These proposed regulations would ensure all landings and sales of IFQ species are accounted for and fish are not kept by a captain and/or crew without first being reported. Federal regulations at 50 CFR 622.38 prohibit a person aboard a vessel that has a Federal commercial vessel permit for Gulf reef fish and commercial quantities of Gulf reef fish from possessing Gulf reef fish caught under a bag limit.

The timeframe for submitting a landing transaction would also be clarified. Current regulations state the dealer is responsible for completing a landing transaction report for each landing and sale of IFQ species at the time of the transaction. In some instances, landing transactions are entered days to weeks after landing and offload. This rulemaking would require a dealer to complete a landing transaction for IFQ species on the day of offload. The purpose of this proposed regulation is to improve the timeliness and accuracy of landing transactions.

To improve accountability of the IFQ species that are transported to a dealer by a vehicle or a trailered vessel, this rule clarifies that a dealer may only receive IFQ fish that have a corresponding transaction approval code.

Offloading

This rulemaking proposes several changes to the offloading requirements. Offloading is currently prohibited from 6 p.m. to 6 a.m. local time. This rule would authorize offloads beginning before 6 p.m. to continue after 6 p.m. if a state or Federal law enforcement officer is present and authorizes the offload to continue. This change would provide dealers and vessel owners/operators additional flexibility when offloading fish. This rule would also require vessels to offload IFQ species within 72 hours of landing. The purpose of this regulation is to ensure IFQ species are offloaded and landing transactions are completed in a timely manner after a fishing trip ends. During the August 2013 Council meeting, the Council discussed providing exceptions to the offloading window to account for Sundays and holiday weekends, and considered extending the offloading window from the proposed 72 hours to 96 hours. During the November 2013 Red Snapper IFQ ad hoc Advisory Panel meeting, the Advisory Panel discussed and recommended that the offloading window exclude Sundays and holidays and that offloading continue after 6 p.m. if authorized by a state or Federal law enforcement offices. NMFS is specifically interested in receiving input regarding the sufficiency of the 72-hour allotted timeframe for completing an offload or whether 96 hours would be a better timeframe for completing an offload after landing.

Landing Locations

Regulations currently state landing locations must be approved by the Office for Law Enforcement prior to a vessel landing IFQ species at these sites. Regulations also require the owner or operator of a vessel to report the location of landing at the time of the advance notice of landing. This rule would clarify and explicitly state that IFQ species must be landed at an approved landing location. This change follows the Council's original intent that the IFQ program require vessels to land at pre-approved landing locations.

Classification

Pursuant to section 304(b)(1)(A) of the Magnuson-Stevens Act, the Assistant Administrator, NMFS, has determined that this proposed rule is consistent with Amendments 26 and 29, the FMP, other provisions of the Magnuson-Stevens Act, and other applicable law, subject to further consideration after public comment.

This proposed rule has been determined to be not significant for purposes of Executive Order 12866.

The Chief Counsel for Regulation of the Department of Commerce certified to the Chief Counsel for Advocacy of the Small Business Administration (SBA) that this rule, if adopted, would not have a significant economic impact on a substantial number of small entities. The factual basis for this determination is as follows:

A description of this proposed rule, why it is being considered, and the objectives of this proposed rule are contained at the beginning of this section in the preamble and in the SUMMARY section of the preamble. The Magnuson-Stevens Act provides the statutory basis for this proposed rule.

The SBA has established size criteria for all major industry sectors in the U.S. including commercial fish harvesters and seafood dealers. The SBA periodically reviews and changes, as appropriate, these size criteria. On June 20, 2013, the SBA issued a final rule revising the small business size standards for several industries effective July 22, 2013 (78 FR 37398). This rule increased the size standard for commercial fish harvesters from $4.0 million to $19.0 million. Neither this rule, nor other recent SBA review, changed the size standard for seafood dealers.

A business involved in commercial fish harvesting is classified as a small business if it is independently owned and operated, is not dominant in its field of operation (including its affiliates), and has combined annual receipts not in excess of $19.0 million (NAICS code 114111, finfish fishing) for all its affiliated operations worldwide. A business involved in seafood purchasing and processing (seafood business) is classified as a small business based on either employment standards or revenue thresholds. A seafood processer that employs 500 or fewer is considered a small entity (NAICS code 311712, fresh and frozen seafood processing), as is a fish or seafood wholesaler with 100 or fewer employees (NAICS code 424460, fish and seafood merchant wholesalers). A seafood business is classified as a small entity if it is independently owned and operated, is not dominant in its field of operation (including its affiliates), and has combined annual receipts not in excess of $7.0 million (NAICS code 445220, fish and seafood marketing) for all affiliated operations worldwide.

This rulemaking, if adopted, would be expected to directly affect all entities that hold a Gulf of Mexico (Gulf) individual fishing quota (IFQ) shareholder account and all seafood dealers that purchase IFQ species. There are over 1,150 shareholder accounts, and more than 150 dealer accounts in the IFQ online system. Although all IFQ shareholders are not required to possess a valid or renewable commercial reef fish permit, this permit is required to harvest and sell IFQ species. As a result, it is assumed for the purpose of this assessment that the majority of the entities that hold an IFQ shareholder account are entities that also possess a valid or renewable commercial reef fish permit. The average annual total revenue for vessels with a commercial reef fish permit is estimated to be less than $100,000 (2011 dollars). As a result, all entities with a shareholder account that would be expected to be directly affected by this rule are believed to be small business entities.

Neither employment information nor total average annual revenue estimates for dealers that purchase IFQ species are available. The total value paid to fishermen for IFQ species was approximately $14.2 million (2012 dollars) for red snapper in 2012, and approximately $21.5 million (2012 dollars) for groupers and tilefishes in 2011, or approximately $35.7 million for all IFQ species. Because IFQ species may only be sold to dealers with IFQ accounts, these payments equate to $238,000 per dealer account. These dealers would also be expected to purchase and sell other marine species in addition to IFQ species. Although the revenue paid to fishermen is not equivalent to the revenue received by the dealer, and dealers would be expected to sell other marine species, because of the large difference between the SBA average annual revenue threshold ($7.0 million) and the average annual payment for the purchase per dealer of IFQ species ($238,000; the SBA threshold is 29 times the average annual payment for the purchase of IFQ species), all dealers that NMFS expects would be directly affected by this rule are believed to be small business entities.

This rule, if implemented, would establish several changes to the administrative functions and compliance requirements of the Gulf IFQ programs. Some of the proposed changes would increase the operational flexibility of commercial fishing vessels and seafood dealers that participate in the Gulf IFQ programs, some of the proposed changes would reduce this flexibility, and some of the proposed changes would only make administrative changes and clarifications that NMFS does not expect to have any economic effect on any vessels or dealers involved in the Gulf IFQ programs. The economic effects of these proposed changes cannot be quantified with available data. However, the proposed changes are intended to support better monitoring and administration of the Gulf IFQ programs and none of these changes would be expected to have a direct substantial effect on the total allowable harvest of IFQ species, average prices, total revenue, or distribution of revenue and profits amongst program participants. Further, although the proposed changes would apply to all program participants and IFQ transactions, only a small portion of IFQ transactions by a small number of participants would likely be impacted.

As noted above, the primary purpose of this rule is to modify the administrative functions and compliance requirements of the Gulf IFQ programs. These changes will have little, if any, economic impact on the affected entities, but will improve their ability to bring fish to market. As a result, this rule, if implemented, would not have a significant economic impact on a substantial number of small entities.

Because this proposed rule, if implemented, is not expected to have a direct adverse economic impact on any small entities, an initial regulatory flexibility analysis is not required and none has been prepared.

This proposed rule contains a collection-of-information requirement subject to the Paperwork Reduction Action (PRA) applicable to participants in the Gulf IFQ programs, namely, a requirement for an IFQ shareholder or dealer to close an IFQ account if the IFQ account holder no longer fishes commercially, no longer owns any IFQ shares or allocation, or no longer wishes to participate as a dealer.

This requirement has been approved by the OMB under control number 0648-0551. The public reporting burden for this collection-of-information is estimated to average 2 minutes per response to complete and submit a Close IFQ Account Request Form. This estimate of the public reporting burden includes the time for reviewing instructions, gathering and maintaining the data needed, and completing and reviewing the collection-of-information. Send comments regarding the burden estimate or any other aspect of the collection-of-information requirement, including suggestions for reducing the burden, to NMFS and to OMB (see ADDRESSES).

Notwithstanding any other provision of law, no person is required to respond to, nor shall a person be subject to a penalty for failure to comply with, a collection-of-information subject to the requirements of the PRA, unless that collection-of-information displays a currently valid OMB control number.

List of Subjects in 50 CFR Part 622

Fisheries, Fishing, Enforcement, Grouper, Gulf, IFQ, Red Snapper, Tilefish.

Dated: March 13, 2014.
Eileen Sobeck,
Assistant Administrator for Fisheries, National Marine Fisheries Service.

For the reasons set out in the preamble 50 CFR part 622 is proposed to be amended as follows:

PART 622—FISHERIES OF THE CARIBBEAN, GULF OF MEXICO, AND SOUTH ATLANTIC

1. The authority citation for part 622 continues to read as follows:

Authority: 16 U.S.C. 1801 et seq.

2. Amend § 622.21 by:

a. Revising paragraph (a)(5);

b. Removing paragraph (a)(6);

c. Revising the 9th sentence in paragraph (b)(1) and adding a sentence between the 9th and 10th sentences;

d. Revising paragraphs (b)(3)(i), (b)(3)(iii), (b)(5)(i), (ii), and (iv), and;

e. Revising the first sentence in paragraph (b)(5)(v) and adding a sentence before the first sentence;

The additions and revisions to read as follows.

§ 622.21 Individual fishing quota (IFQ) program for Gulf red snapper.

(a) * * *

(5) Closing an IFQ account. IFQ account holders may close an IFQ account by completing and submitting a Close IFQ Account Request Form to NMFS. This form must be signed by an account holder named on the IFQ account. If the request to close an IFQ account is being made because the sole account holder is deceased, the person requesting the closure must sign the Close IFQ Account Request Form, indicating the relationship to the deceased, provide a death certificate, and provide any additional information NMFS determines is necessary to complete the request. IFQ shareholder accounts may not be closed until all shares and allocation have been transferred from the account to another IFQ account holder. Dealer accounts may not be closed until all cost recovery fees have been received by NMFS. NMFS' IFQ Customer Service staff may close an IFQ account if all shares and allocation have been transferred from the account, all cost recovery fees have been received by NMFS, and no landing transactions or IFQ transfers have been completed by the IFQ account holder in at least 1 year. If an account is closed by NMFS' IFQ Customer Service staff, it may be reopened at the request of the IFQ account holder by contacting IFQ Customer Service.

(b) * * *

(1) * * * A vessel account, or its linked IFQ shareholder account, must hold sufficient IFQ allocation, at least equal to the pounds in gutted weight of the red snapper on board at the time of advance notice of landing. Allocation must be transferred to the vessel account, so that the vessel account holds sufficient IFQ allocation at the time of the landing transaction (except for any overage allowed as specified in paragraph (b)(3)(ii) of this section). * * *

* * * * *

(3) * * *

(i) At the time of advance notice of landing, the IFQ vessel account, or its linked IFQ shareholder account, must contain allocation at least equal to the pounds in gutted weight of red snapper to be landed, except as provided in paragraph (b)(3)(ii) of this section. At the time of the landing transaction, the IFQ vessel account must contain allocation at least equal to the pounds in gutted weight of red snapper to be landed, except as provided in paragraph (b)(3)(ii) of this section. Such red snapper must be sold and can be received only by a dealer who has a valid Gulf IFQ dealer endorsement and an active IFQ dealer account (i.e., not in delinquent status). All IFQ landings and their actual ex-vessel prices must be reported via the IFQ Web site at ifq.sero.fisheries.noaa.gov.

* * * * *

(iii) The dealer must complete a landing transaction report for each landing of Gulf red snapper via the IFQ Web site at ifq.sero.fisheries.noaa.gov on the day of offload. IFQ red snapper must be offloaded within 72 hours from the time of landing, in accordance with the reporting form(s) and instructions provided on the Web site. This report includes date, time, and location of transaction; weight and actual ex-vessel price of red snapper landed and sold (when calculating the weight of IFQ red snapper during a landing transaction, ice and water weight must be included); and information necessary to identify the fisherman, vessel, and dealer involved in the transaction. The fisherman must validate the dealer transaction report by entering his unique PIN when the transaction report is submitted. After the dealer submits the report and the information has been verified, the Web site will send a transaction approval code to the dealer and the allocation holder.

* * * * *

(5) * * *

(i) Advance notice of landing—(A) General requirement. For the purpose of this paragraph, landing means to arrive at a dock, berth, beach, seawall, or ramp. The owner or operator of a vessel landing IFQ red snapper is responsible for ensuring that NMFS is contacted at least 3 hours, but no more than 24 hours, in advance of landing to report the time and location of landing, estimated red snapper landings in pounds gutted weight, vessel identification number (Coast Guard registration number or state registration number), and the name and address of the IFQ dealer(s) where the red snapper are to be received. The vessel must land within 30 minutes after the time given in the landing notification except as provided in paragraph (b)(5)(i)(C) of this section. The vessel landing red snapper must have sufficient IFQ allocation in the IFQ vessel account, or its linked IFQ shareholder account, at least equal to the pounds in gutted weight of all red snapper on board (except for any overage up to the 10 percent allowed on the last fishing trip) at the time of the advance notice of landing.

(B) Submitting an advanced landing notification. Authorized methods for contacting NMFS and submitting the report include calling IFQ Customer Service at 1-866-425-7627, completing and submitting to NMFS a landing notification provided through the VMS unit, or providing the required information to NMFS through the Web-based form available on the IFQ Web site at ifq.sero.fisheries.noaa.gov.

(C) Landing prior to the notification time. The owner or operator of a vessel that has completed a landing notification and submitted it to NMFS may land prior to the notification time, only if a state or Federal law enforcement officer is present at the landing site and has authorized the owner or operator of the vessel to land early.

(D) Changes to a landing notification. The owner or operator of a vessel who has submitted a landing notification to NMFS may make changes to the notification by submitting a superseding notification. If the initial superseding notification makes changes to one or more of the following: The time of landing (if landing more than 30 minutes after the time on the notification), the dealer(s), or the estimated weights of fish to be landed, the vessel does not need to wait an additional 3 hours to land. If the initial superseding notification makes changes to the landing location, the time of landing is earlier than previously specified, or more than one superseding notification is submitted on a trip, the vessel must wait an additional 3 hours to land, except as provided in paragraph (b)(5)(i)(C) of this section.

(ii) Time restriction on offloading. For the purpose of this paragraph, offloading means to remove IFQ red snapper from a vessel. IFQ red snapper may be offloaded only between 6 a.m. and 6 p.m., local time, unless a state or Federal law enforcement officer is present at the offloading at 6 p.m. and authorizes the owner or operator of the vessel to continue offloading after 6 p.m., local time.

* * * * *

(iv) Requirement for transaction approval code. If IFQ red snapper are offloaded to a vehicle for transport or are on a vessel that is trailered for transport, on-site capability to accurately weigh the fish and to connect electronically to the online IFQ system to complete the transaction and obtain the transaction approval code is required. After a landing transaction has been completed, a transaction approval code verifying a legal transaction of the amount of IFQ red snapper in possession and a copy of the dealer endorsement must accompany any IFQ red snapper from the landing location through possession by a dealer. This requirement also applies to IFQ red snapper possessed on a vessel that is trailered for transport. A dealer may only receive IFQ red snapper transported by a vehicle or a trailered vessel that has a corresponding transaction approval code.

(v) Approved landing locations. IFQ red snapper must be landed at an approved landing location. Landing locations must be approved by NMFS Office for Law Enforcement prior to a vessel landing IFQ red snapper at these sites. * * *

* * * * *

3. Amend § 622.22 by:

a. Adding paragraph (a)(8);

b. Revising the 9th sentence in paragraph (b)(1) and adding a sentence between the 9th and 10th sentences;

c. Revising paragraphs (b)(3)(i), (b)(3)(iii), (b)(5)(i), (ii), and (iv);

d. Revising the first sentence in paragraph (b)(5)(v) and adding a sentence before the first sentence in paragraph.

The additions and revisions to read as follows:

§ 622.22 Individual fishing quota (IFQ) program for Gulf groupers and tilefishes.

(a) * * *

(8) Closing an IFQ account. IFQ account holders may close an IFQ account by completing and submitting a Close IFQ Account Request Form to NMFS. This form must be signed by an account holder named on the IFQ account. If the request to close an IFQ account is being made because the sole account holder is deceased, the person requesting the closure must sign the Close IFQ Account Request Form, indicating the relationship to the deceased, provide a death certificate, and provide any additional information NMFS determines is necessary to complete the request. IFQ shareholder accounts may not be closed until all shares and allocation have been transferred from the account to another IFQ account holder. Dealer accounts may not be closed until all cost recovery fees have been received by NMFS. NMFS' IFQ Customer Service staff may close an IFQ account if all shares and allocation have been transferred from the account, all cost recovery fees have been received by NMFS, and no landing transactions or IFQ transfers have been completed by the IFQ account holder in at least 1 year. If an account is closed by NMFS' IFQ Customer Service staff, it may be reopened at the request of the IFQ account holder by contacting IFQ Customer Service.

(b) * * *

(1) * * * A vessel account, or its linked IFQ shareholder account, must hold sufficient IFQ allocation in the appropriate share category, at least equal to the pounds in gutted weight of the groupers and tilefishes on board at the time of advance notice of landing. Allocation must be transferred to the vessel account, so that the vessel account holds sufficient IFQ allocation at the time of the landing transaction (except for any overage allowed as specified in paragraph (b)(3)(ii) for groupers and tilefishes). * * *

* * * * *

(3) * * *

(i) At the time of advance notice of landing, the IFQ vessel account, or its linked IFQ shareholder account, must contain allocation at least equal to the pounds in gutted weight of grouper or tilefish species to be landed, except as provided in paragraph (b)(3)(ii) of this section. At the time of the landing transaction, the IFQ vessel account must contain allocation at least equal to the pounds in gutted weight of grouper or tilefish species to be landed, except as provided in paragraph (b)(3)(ii) of this section. Such groupers and tilefishes must be sold and can be received only by a dealer who has a valid Gulf IFQ dealer endorsement and an active IFQ dealer account (i.e., not in delinquent status). All IFQ landings and their actual ex-vessel prices must be reported via the IFQ Web site at ifq.sero.fisheries.noaa.gov.

* * * * *

(iii) The dealer must complete a landing transaction report for each landing of Gulf groupers or tilefishes via the IFQ Web site at ifq.sero.fisheries.noaa.gov on the day of offload. IFQ groupers and tilefishes must be offloaded within 72 hours from the time of landing, in accordance with the reporting form(s) and instructions provided on the Web site. This report includes date, time, and location of transaction; weight and actual ex-vessel price of groupers and tilefishes landed and sold (when calculating the weight of IFQ groupers and tilefishes during a landing transaction, ice and water weight must be included); and information necessary to identify the fisherman, vessel, and dealer involved in the transaction. The fisherman must validate the dealer transaction report by entering the unique PIN for the vessel account when the transaction report is submitted. After the dealer submits the report and the information has been verified by NMFS, the online system will send a transaction approval code to the dealer and the allocation holder.

* * * * *

(5) * * *

(i) Advance notice of landing—(A) General requirement. For the purpose of this paragraph, landing means to arrive at a dock, berth, beach, seawall, or ramp. The owner or operator of a vessel landing IFQ groupers or tilefishes is responsible for ensuring that NMFS is contacted at least 3 hours, but no more than 24 hours, in advance of landing to report the time and location of landing, estimated grouper and tilefish landings in pounds gutted weight for each share category (gag, red grouper, DWG, Other SWG, tilefishes), vessel identification number (Coast Guard registration number or state registration number), and the name and address of the IFQ dealer(s) where the groupers or tilefishes are to be received. The vessel must land within 30 minutes after the time given in the landing notification except as provided in paragraph (b)(5)(i)(C) of this section. The vessel landing groupers or tilefishes must have sufficient IFQ allocation in the IFQ vessel account, or its linked IFQ shareholder account, and in the appropriate share category or categories, at least equal to the pounds in gutted weight of all groupers and tilefishes on board (except for any overage up to the 10 percent allowed on the last fishing trip) at the time of the advance notice of landing.

(B) Submitting an advanced landing notification. Authorized methods for contacting NMFS and submitting the report include calling IFQ Customer Service at 1-866-425-7627, completing and submitting to NMFS a landing notification provided through the VMS unit, or providing the required information to NMFS through the web-based form available on the IFQ Web site at ifq.sero.fisheries.noaa.gov.

(C) Landing prior to the notification time. The owner or operator of a vessel that has completed a landing notification and submitted it to NMFS may land prior to the notification time, only if a state or Federal law enforcement officer is present at the landing site and has authorized the owner or operator of the vessel to land early.

(D) Changes to a landing notification. The owner or operator of a vessel who has submitted a landing notification to NMFS may make changes to the notification by submitting a superseding notification. If the initial superseding notification makes changes to one or more of the following: The time of landing (if landing more than 30 minutes after the time on the notification), the dealer(s), or the estimated weights of fish to be landed, the vessel does not need to wait an additional 3 hours to land. If the initial superseding notification makes changes to the landing location, the time of landing is earlier than previously specified, or more than one superseding notification is submitted on a trip, the vessel must wait an additional 3 hours to land, except as provided in paragraph (b)(5)(i)(C) of this section.

(ii) Time restriction on offloading. For the purpose of this paragraph, offloading means to remove IFQ groupers and tilefishes from a vessel. IFQ groupers or tilefishes may be offloaded only between 6 a.m. and 6 p.m., local time, unless a state or Federal law enforcement officer is present at the offloading at 6 p.m. and authorizes the owner or operator of the vessel to continue offloading after 6 p.m.

* * * * *

(iv) Requirement for transaction approval code. If IFQ groupers or tilefishes are offloaded to a vehicle for transport or are on a vessel that is trailered for transport, on-site capability to accurately weigh the fish and to connect electronically to the online IFQ system to complete the transaction and obtain the transaction approval code is required. After a landing transaction has been completed, a transaction approval code verifying a legal transaction of the amount of IFQ groupers and tilefishes in possession and a copy of the dealer endorsement must accompany any IFQ groupers or tilefishes from the landing location through possession by a dealer. This requirement also applies to IFQ groupers and tilefishes possessed on a vessel that is trailered for transport. A dealer may only receive IFQ groupers and tilefishes transported by a vehicle or a trailered vessel that has a corresponding transaction approval code.

(v) Approved landing locations. IFQ groupers and tilefishes must be landed at an approved landing location. Landing locations must be approved by NMFS Office for Law Enforcement prior to a vessel landing IFQ groupers or tilefishes at these sites. * * *

* * * * *

PART 622—[AMENDED]

4. In part 622, revise “IFQ online account” to read “IFQ account” wherever it occurs.

PART 622—[AMENDED]

5. In part 622, revise “ifq.sero.nmfs.noaa.gov” to read “ifq.sero.fisheries.noaa.gov” wherever it occurs.

[FR Doc. 2014-06065 Filed 3-18-14; 8:45 am]

BILLING CODE 3510-22-P